DEPARTMENT OF COMMERCE

Foreign-Trade Zones Board

[S-8-2019]

Approval of Subzone Status; Hartland Controls, LLC; Rock Falls, Illinois

On February 4, 2019, the Executive Secretary of the Foreign-Trade Zones (FTZ) Board docketed an application submitted by the Jo-Carroll Foreign Trade Zone Board, grantee of FTZ 271, requesting subzone status subject to the existing activation limit of FTZ 271, on behalf of Hartland Controls, LLC, in Rock Falls, Illinois.

The application was processed in accordance with the FTZ Act and Regulations, including notice in the Federal Register inviting public comment (84 FR 2812, February 8, 2019). The FTZ staff examiner reviewed the application and determined that it meets the criteria for approval. Pursuant to the authority delegated to the FTZ Board Executive Secretary (15 CFR 400.36(f)), the application to establish Subzone 271B was approved on May 28, 2019, subject to the FTZ Act and the Board's regulations, including Section 400.13, and further subject to FTZ 271's 2,000-acre activation limit.

Dated: May 28, 2019.
Andrew McGilvray,
Executive Secretary.

[FR Doc. 2019-11477 Filed 5-31-19; 8:45 am]

BILLING CODE 3510-DS-P